DEPARTMENT OF VETERANS AFFAIRS

Annual Pay Ranges for Physicians and Dentists of the Veterans Health Administration (VHA)

AGENCY: Department of Veterans Affairs.

ACTION: Notice; correction.

SUMMARY: In a notice document that published in the Federal Register on May 16, 2007 (72 FR 27637), the Department of Veterans Affairs gave notice of annual pay ranges for Veterans Health Administration (VHA) physicians and dentists as prescribed by the Secretary for Department-wide applicability. In that published notice, we inadvertently inserted an incorrect effective date. Accordingly, this document corrects that error. The “Dates Section” is corrected to read as follows:

Effective Dates: Annual pay ranges are effective on July 22, 2007.

FOR FURTHER INFORMATION CONTACT: Donna R. Schroeder, Director, Compensation and Classification Service (055), Office of Human Resources Management, Department of Veterans Affairs, 810 Vermont Avenue, NW., Washington, DC 20420, (202) 273-9803.

Dated: May 16, 2007.
William F. Russo,
Director of Regulations Management, Office of Regulation Policy and Management, U.S. Department of Veterans Affairs.

[FR Doc. E7-9763 Filed 5-21-07; 8:45 am]

BILLING CODE 8320-01-P